DEPARTMENT OF ENERGY

Federal Energy Regulatory Commission

Combined Notice of Filings #1

Take notice that the Commission received the following electric corporate filings:

Docket Numbers: EC24-26-000.

Applicants: Bayou Cove Peaking Power LLC, Big Cajun I Peaking Power LLC, Cottonwood Energy Company LP, Louisiana Generating LLC, Pelican Power LLC, Big Pelican LLC, Pelican South Central LLC.

Description: Joint Application for Authorization Under Section 203 of the Federal Power Act of Bayou Cove Peaking Power LLC, et. al.

Filed Date: 12/14/23.

Accession Number: 20231214-5267.

Comment Date: 5 p.m. ET 1/4/24.

Take notice that the Commission received the following exempt wholesale generator filings:

Docket Numbers: EG24-57-000.

Applicants: Ashtrom Renewable Energy LLC.

Description: Ashtrom Renewable Energy LLC submits Notice of Self-Certification of Exempt Wholesale Generator Status.

Filed Date: 12/15/23.

Accession Number: 20231215-5260.

Comment Date: 5 p.m. ET 1/5/24.

Docket Numbers: EG24-58-000.

Applicants: Castanea Project, LLC.

Description: Castanea Project, LLC submits Notice of Self-Certification of Exempt Wholesale Generator Status.

Filed Date: 12/18/23.

Accession Number: 20231218-5020.

Comment Date: 5 p.m. ET 1/8/24.

Take notice that the Commission received the following electric rate filings:

Docket Numbers: ER10-1119-008; ER10-1123-010.

Applicants: Union Electric Company, Central Illinois Public Service Company.

Description: Triennial Market Power Analysis for Central Region of Ameren Illinois Company, et. al.

Filed Date: 12/15/23.

Accession Number: 20231215-5317.

Comment Date: 5 p.m. ET 2/13/24.

Docket Numbers: ER22-381-009; ER10-1781-005; ER19-2626-007; ER21-714-008; ER22-399-003.

Applicants: Meadow Lake Solar Park LLC, Indiana Crossroads Wind Farm LLC, Rosewater Wind Farm LLC, Northern Indiana Public Service Company, Dunns Bridge Solar Center, LLC.

Description: Triennial Market Power Analysis for Central Region of Dunns Bridge Solar Center, LLC.

Filed Date: 12/15/23.

Accession Number: 20231215-5316.

Comment Date: 5 p.m. ET 2/13/24.

Docket Numbers: ER23-1304-000.

Applicants: MFT Energy US 1 LLC.

Description: Supplemental of Refund Report of MFT Energy US 1 LLC.

Filed Date: 12/18/23.

Accession Number: 20231218-5092.

Comment Date: 5 p.m. ET 1/8/24.

Docket Numbers: ER23-2355-002.

Applicants: PJM Interconnection, L.L.C.

Description: Tariff Amendment: Submission of Response to Deficiency Letter, Amended ISA, SA No. 5833 to be effective 9/6/2023.

Filed Date: 12/18/23.

Accession Number: 20231218-5116.

Comment Date: 5 p.m. ET 1/8/24.

Docket Numbers: ER23-2882-001.

Applicants: Alabama Power Company, Georgia Power Company, Mississippi Power Company.

Description: Tariff Amendment: Alabama Power Company submits tariff filing per 35.17(b): Hancock County Solar Project LGIA Deficiency Response to be effective 9/1/2023.

Filed Date: 12/18/23.

Accession Number: 20231218-5113.

Comment Date: 5 p.m. ET 1/8/24.

Docket Numbers: ER23-2890-001.

Applicants: Alabama Power Company, Georgia Power Company, Mississippi Power Company.

Description: Tariff Amendment: Alabama Power Company submits tariff filing per 35.17(b): CROS bn (Crossroads Solar + BESS) LGIA Deficiency Response to be effective 9/12/2023.

Filed Date: 12/18/23.

Accession Number: 20231218-5111.

Comment Date: 5 p.m. ET 1/8/24.

Docket Numbers: ER24-24-001.

Applicants: ISO New England Inc., Versant Power.

Description: Compliance filing: ISO New England Inc. submits tariff filing per 35: Versant Power; Refund Report in Docket No. ER24-24-__ to be effective N/A.

Filed Date: 12/18/23.

Accession Number: 20231218-5093.

Comment Date: 5 p.m. ET 1/8/24.

Docket Numbers: ER24-691-000.

Applicants: California State University Channel Islands Site Authority.

Description: Petition for Limited Waiver of California State University Channel Islands Site Authority.

Filed Date: 12/13/23.

Accession Number: 20231213-5234.

Comment Date: 5 p.m. ET 1/3/24.

Docket Numbers: ER24-692-000.

Applicants: PacifiCorp.

Description: § 205(d) Rate Filing: PacifiCorp OATT Revised Attachment H-1—Attachments 3 and 5 to be effective 2/17/2024.

Filed Date: 12/18/23.

Accession Number: 20231218-5081.

Comment Date: 5 p.m. ET 1/8/24.

Docket Numbers: ER24-693-000.

Applicants: PacifiCorp.

Description: § 205(d) Rate Filing: Tri-State NITSA Rev 12 to be effective 1/1/2024.

Filed Date: 12/18/23.

Accession Number: 20231218-5082.

Comment Date: 5 p.m. ET 1/8/24.

Docket Numbers: ER24-694-000.

Applicants: Boston Energy Trading and Marketing LLC.

Description: § 205(d) Rate Filing: Revised Market-Based Rate Tariff to be effective 12/19/2023.

Filed Date: 12/18/23.

Accession Number: 20231218-5105.

Comment Date: 5 p.m. ET 1/8/24.

Docket Numbers: ER24-695-000.

Applicants: Alabama Power Company, Georgia Power Company, Mississippi Power Company.

Description: § 205(d) Rate Filing: Alabama Power Company submits tariff filing per 35.13(a)(2)(iii: Rhineng BESS LGIA Filing to be effective 12/4/2023.

Filed Date: 12/18/23.

Accession Number: 20231218-5115.

Comment Date: 5 p.m. ET 1/8/24.

Docket Numbers: ER24-696-000.

Applicants: ISO New England Inc., Eversource Energy Service Company (as agent).

Description: § 205(d) Rate Filing: ISO New England Inc. submits tariff filing per 35.13(a)(2)(iii: Eversource; Refund of Difference Between Actual and Fixed Amounts for PBOP to be effective 2/16/2024.

Filed Date: 12/18/23.

Accession Number: 20231218-5198.

Comment Date: 5 p.m. ET 1/8/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: December 18, 2023.
Debbie-Anne A. Reese,
Deputy Secretary.

[FR Doc. 2023-28257 Filed 12-21-23; 8:45 am]

BILLING CODE 6717-01-P